DEPARTMENT OF TRANSPORTATION

Federal Aviation Administration

14 CFR Part 39

[Docket No. FAA-2012-0578; Directorate Identifier 2012-CE-019-AD; Amendment 39-17071; AD 2012-11-08]

RIN 2120-AA64

Airworthiness Directives; WACO Classic Aircraft Corporation Airplanes

AGENCY: Federal Aviation Administration (FAA), DOT.

ACTION: Final rule; request for comments.

SUMMARY: We are adopting a new airworthiness directive (AD) for certain WACO Classic Aircraft Corporation Models 2T-1A, 2T-1A-1, and 2T-1A-2 airplanes. This AD requires inspection of the front and rear horizontal stabilizer spar assemblies with replacement of parts as necessary. This AD was prompted by cracking of the horizontal stabilizer spars, which could lead to failure of the horizontal spars with consequent loss of control. We are issuing this AD to correct the unsafe condition on these products.

DATES: This AD is effective June 20, 2012.

The Director of the Federal Register approved the incorporation by reference of a certain publication listed in the AD as of June 20, 2012.

We must receive comments on this AD by July 20, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact WACO Classic Aircraft Corporation; 15955 South Airport Rd., Battle Creek, Michigan 49015; telephone: (269) 565-1000; fax: (269) 565-1100; email: flywaco@wacoclassic.com; Internet: http://www.wacoaircraft.com/great-lakes-support/. You may review copies of the referenced service information at the FAA Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Steven J. Rosenfeld, Aerospace Engineer, Chicago Aircraft Certification Office (ACO), FAA, 2300 East Devon Avenue, Room 107, Des Plaines, Illinois 60018; phone: (847) 294-7030; fax: (847) 294-7834; email: steven.rosenfeld@faa.gov.

SUPPLEMENTARY INFORMATION:

Discussion

In the last two years, there have been three incidents of horizontal stabilizer failure on WACO Classic Aircraft Corporation Models 2T-1A, 2T-1A-1, and 2T-1A-2 airplanes. Cracks originated from around the circumference of the right stabilizer front spar and, in one incident, the stabilizer separated from the aircraft. This condition, if not corrected, could result in failure of the horizontal stabilizer spars with consequent loss of control.

Relevant Service Information

We reviewed WACO Classic Aircraft Corporation, Great Lakes Aircraft, Service Bulletin No. SB-GL12-01R, Revision IR, dated January 25, 2012. The service information describes procedures for inspecting the front and rear horizontal stabilizer spar assemblies with replacement as necessary.

FAA's Determination

We are issuing this AD because we evaluated all the relevant information and determined the unsafe condition described previously is likely to exist or develop in other products of the same type design.

AD Requirements

This AD requires inspecting the front and rear horizontal stabilizer spar assemblies with replacement of parts as necessary. The AD also requires sending the initial inspection results to the Chicago ACO.

Interim Action

We consider this AD interim action. After evaluating the inspection results, we may take further AD action.

FAA's Justification and Determination of the Effective Date

An unsafe condition exists that requires the immediate adoption of this AD. The FAA has found that the risk to the flying public justifies waiving notice and comment prior to adoption of this rule because failure of the horizontal stabilizer spars could result in loss of control. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2012-0578 and Directorate Identifier 2012-CE-019-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 134 airplanes of U.S. registry.

We estimate the following costs to comply with this AD:

Estimated Costs
Action | Labor cost | Parts cost | Cost per product | Cost on U.S. operators
Inspection of the front and rear horizontal stabilizer spar assemblies | 4 work-hours × $85 per hour = $340 | Not applicable | $340 | $45,560

We estimate the following costs to do any necessary replacements that would be required based on the results of the inspection. We have no way of determining the number of aircraft that might need these replacements:

On-Condition Costs
Action | Labor cost | Parts cost | Cost per product
Replacement of the front and rear spar stabilizer assembly parts (accumulative cost for all four spar assemblies) | 92 work-hours × $85 per hour = 7,820 | $2,200 | $10,020

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-11-08 WACO Classic Aircraft Corporation: Amendment 39-17071 ; Docket No. FAA-2012-0578; Directorate Identifier 2012-CE-019-AD.

(a) Effective Date

This AD is effective June 20, 2012.

(b) Affected ADs

None.

(c) Applicability

This AD applies to the following WACO Classic Aircraft Corporation model airplanes listed in paragraphs (c)(1) through (c)(3) of this AD, certificated in any category:

(1) 2T-1A: Serial numbers (S/Ns) 0501 through 0502,

(2) 2T-1A-1: S/Ns 0503 through 0699, and

(3) 2T-1A-2: S/Ns 0701 through 1012.

(d) Subject

Joint Aircraft System Component (JASC)/Air Transport Association (ATA) of America Code 55, Horizontal Stabilizer Spar/Rib.

(e) Unsafe Condition

This AD was prompted by failure of the horizontal stabilizer spars, which could result in loss of control. We are issuing this AD to correct the unsafe condition on these products.

(f) Compliance

Comply with this AD within the compliance times specified, unless already done.

(g) Inspection

Before doing aerobatic flight maneuvers or at the next annual or 100-hour inspection after July 20, 2012, whichever occurs first, and repetitively thereafter at intervals not to exceed every 200 hours time-in-service (TIS), inspect the front and rear horizontal stabilizer spar assemblies for cracking following WACO Classic Aircraft Corporation, Great Lakes Aircraft, Service Bulletin No. SB-GL12-01R, Revision IR, dated January 25, 2012.

(h) Maintenance

If any cracking is found during any of the inspections required by paragraph (g) of this AD, before further flight, replace the cracked parts following WACO Classic Aircraft Corporation, Great Lakes Aircraft, Service Bulletin No. SB-GL12-01R, Revision IR, dated January 25, 2012.

(i) Reporting Requirement

Within 10 days after the initial inspection required in paragraph (g) of this AD, send a report of the inspection results to the Chicago Aircraft Certification Office (ACO) using the contact information found in the Related Information paragraph (l). Include in your report the following information:

(1) Date of inspection,

(2) Model of aircraft,

(3) N number of aircraft,

(4) Serial number of aircraft,

(5) Hours TIS of aircraft,

(6) Description of failure if applicable,

(7) Part(s) and part number of failed part(s) if applicable.

(j) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Alternative Methods of Compliance (AMOCs)

(1) The Manager, Chicago ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(l) Related Information

For more information about this AD, contact Steven J. Rosenfeld, Aerospace Engineer, Chicago Aircraft Certification Office (ACO), FAA, 2300 East Devon Avenue, Room 107, Des Plaines, Illinois 60018; phone: (847) 294-7030; fax: (847) 294-7834; email: steven.rosenfeld@faa.gov.

(m) Material Incorporated by Reference

(1) You must use WACO Classic Aircraft Corporation, Great Lakes Aircraft, Service Bulletin No. SB-GL12-01R, Revision IR, dated January 25, 2012, to do the actions required by this AD, unless the AD specifies otherwise. The Director of the Federal Register approved the incorporation by reference (IBR) under 5 U.S.C. 552(a) and 1 CFR part 51.

(2) For service information identified in this AD, contact WACO Classic Aircraft Corporation; 15955 South Airport Rd., Battle Creek, Michigan 49015; telephone: (269) 565-1000; fax: (269) 565-1100; email: flywaco@wacoclassic.com; Internet: http://www.wacoaircraft.com/great-lakes-support/.

(3) You may review copies of the service information at the FAA Small Airplane Directorate, 901 Locust, Kansas City, Missouri 64106. For information on the availability of this material at the FAA, call (816) 329-4148.

(4) You may also review copies of the service information that is incorporated by reference at the National Archives and Records Administration (NARA). For information on the availability of this material at NARA, call 202-741-6030, or go to: http://www.archives.gov/federal-register/cfr/ibr_locations.html.

Issued in Kansas City, Missouri, on May 25, 2012.
Earl Lawrence,
Manager, Small Airplane Directorate, Aircraft Certification Service.

[FR Doc. 2012-13355 Filed 6-4-12; 8:45 am]

BILLING CODE 4910-13-P